CORPORATION FOR NATIONAL AND COMMUNITY SERVICE

Agency Information Collection Activities; Submission to the Office of Management and Budget for Review and Approval; Comment Request; Financial Management Survey

AGENCY: Corporation for National and Community Service.

ACTION: Notice.

SUMMARY: In accordance with the Paperwork Reduction Act of 1995, CNCS is proposing to renew an information collection.

DATES: Written comments must be submitted to the individual and office listed in the ADDRESSES section by September 18, 2017.

ADDRESSES: To access and review all the documents related to information collection listed in this notice, please use http://regulations.gov. You may submit comments, identified by the title of the information collection activity, by any of the following methods:

(1) By mail sent to: Corporation for National and Community Service, Doug Godesky, Senior Grants Officer, Office of Grants Management, CNCS, 250 E. Street SW., Washington, DC 20525.

(2) By hand delivery or by courier to the CNCS mailroom at Room 8100 at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Douglas Godesky, Senior Grants Officer, 202-606-6967 or by email at dgodesky@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Comments submitted in response to this notice will be summarized and/or included in the request for Office of Management and Budget approval of the information collection request; they will also become a matter of public record.

Current Action

Title of Collection: Financial Management Survey.

OMB Control Number: 3045-0102.

Type of Review: Renewal.

Respondents/Affected Public: Organizations that are first time grant recipients to the CNCS.

Total Estimated Number of Respondents: 20.

Total Estimated Frequency: Once.

Total Estimated Average Time per Response: Averages 1.75 hours.

Total Estimated Number of Annual Burden Hours: 35 hours.

Total Burden Cost (capital/startup): None.

Total Burden Cost (operating/maintenance): None.

Abstract

Organizations that are receiving CNCS grant funds for the first time complete the form. It can be completed and submitted via email. The survey requests some existing organizational documents, such as an IRS Form 990 and audited financial statements. Organizations can provide those documents electronically or submit them on paper. CNCS seeks to renew the current information collection. The renewed information collection includes the correction of minor administrative and typographical errors and simplifies the submission instructions. The information collection will otherwise be used in the same manner as the existing application. CNCS also seeks to continue using the current application until the revised application is approved by OMB. The current application is due to expire on September 30, 2017.

Dated: July 13, 2017.
Douglas Godesky,
Senior Grants Officer, Office of Grants Management, Corporation for National and Community Service.

[FR Doc. 2017-15070 Filed 7-18-17; 8:45 am]

BILLING CODE 6050-28-P